DEPARTMENT OF HEALTH AND HUMAN SERVICES

Administration for Children and Families

Submission for OMB Review; Comment Request

Title: Assessing the Implementation and Cost of High Quality Early Care and Education: Comparative Multi-Case Study.

OMB No.: New.

Description: The Administration for Children and Families (ACF) at the U.S. Department of Health and Human Services (HHS) seeks approval to collect new information to use in developing measures of the implementation and costs of high quality early care and education. This information collection is part of the project, Assessing the Implementation and Cost of High Quality Early Care and Education (ECE-ICHQ). The project's goal is to create a technically sound and feasible instrument that will provide consistent, systematic measures of the implementation and costs of education and care in center-based settings that serve children from birth to age 5. The resulting measures will inform research, policy, and practice by improving understanding of variations in what centers do to support quality, their associated costs, and how resources for ECE may be better aligned with expectations for quality. The goals of the study are (1) to test and refine a mixed methods approach to identifying the implementation activities and costs of key functions within ECE centers and (2) to produce data for creating measures of implementation and costs. The study recently collected data through on-site visits to 15 centers as part of an initial phase of data collection under clearance, #0970-0355. In this initial phase, the study team tested data collection tools and methods, conducted cognitive interviews to obtain feedback from respondents about the tools, and used the information to reduce and refine the tools for the next phase of data collection. This request is focused on the next phase of data collection which will include 50 ECE centers in three states. The next phase will rely on remote data collection through electronic data collection tools, telephone interviews, and web-based surveys.

Respondents: ECE site administrators or center directors, program directors, education specialists, financial managers or accountants, lead teachers, and assistant teachers.

Annual Burden Estimates
Instrument | Total/annual number of respondents | Number of responses per respondent | Average burden hours per response | Annual burden hours
Initial email to selected center directors | 400 | 1 | .08 | 32
Center recruitment call | 415 | 1 | .33 | 137
Center engagement call | 50 | 1 | .42 | 21
Implementation interview: Center director | 50 | 1 | 3 | 150
Implementation interview: Additional center staff | 60 | 1 | .5 | 30
Cost workbook | 50 | 1 | 7.5 | 375
Time use survey staff roster | 50 | 1 | .25 | 13
Time use survey advance letter | 700 | 1 | .08 | 56
Time use survey | 560 | 1 | .25 | 140

Estimated Total Annual Burden Hours: 954 hours.

Additional Information: Copies of the proposed collection may be obtained by writing to the Administration for Children and Families, Office of Planning, Research and Evaluation, 330 C Street SW., Washington, DC 20201, Attn: OPRE Reports Clearance Officer. All requests should be identified by the title of the information collection. Email address: OPREinfocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Mary Jones,
ACF/OPRE Certifying Officer.

[FR Doc. 2017-10525 Filed 5-22-17; 8:45 am]

BILLING CODE 4184-23-P